DEPARTMENT OF THE INTERIOR

National Park Service

[NPS-WASO-NAGPRA-NPS0027390; PPWOCRADN0-PCU00RP14.R50000]

Notice of Inventory Completion: Fowler Museum at University of California Los Angeles, Los Angeles, CA

AGENCY: National Park Service, Interior.

ACTION: Notice.

SUMMARY: The Fowler Museum at University of California Los Angeles (UCLA) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Fowler Museum at UCLA. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Fowler Museum at UCLA at the address in this notice by April 29, 2019.

ADDRESSES: Wendy G. Teeter, Ph.D., Fowler Museum at UCLA, Box 951549, Los Angeles, CA 90095-1549, telephone (310) 825-1864, email wteeter@arts.ucla.edu.

SUPPLEMENTARY INFORMATION: Notice is here given in accordance with the Native American Graves Protection and Repatriation Act (NAGPRA), 25 U.S.C. 3003, of the completion of an inventory of human remains and associated funerary objects under the control of the Fowler Museum at UCLA, Los Angeles, CA. The human remains and associated funerary objects were removed from San Luis Obispo County, California.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Fowler Museum at UCLA professional staff in consultation with representatives of the Santa Ynez Band of Chumash Mission Indians of the Santa Ynez Reservation, California. The Fowler Museum also consulted with the following non-federally recognized Indian groups: Barbareno/Ventureno Band of Mission Indians; Coastal Band of the Chumash Nation; and Northern Chumash Tribe.

History and Description of the Remains and Associated Funerary Objects

In 1958, human remains representing, at minimum, four individuals were removed from site SLO-393, near Arroyo Grande Creek, in San Luis Obispo County, CA. Excavations in preparation for a planned dam were conducted on private land by William Wallace of the University of Southern California at the request of the National Park Service. The site dates to the Late Period (ca. 1670). The human remains consist of one formal burial of a juvenile and fragmentary remains representing three adults. No known individuals were identified. The 208 associated funerary objects include: 23 bone whistles, three bone sweat scrapers, three worked abalone shell fragments, one chert biface, one charmstone, one stone fragment, one steatite plume holder, one bag of soil, 68 asphaltum fragments, 78 olivella shell beads, 17 dentallium shell beads, five stone pebbles, and six unmodified canid phalanges.

In 1958, human remains representing, at minimum, two individuals were removed from site SLO-398, near Arroyo Grande Creek, in San Luis Obispo County, CA. Excavations in preparation for a planned dam were conducted on private land by William Wallace at the request of the National Park Service. The site dates to the Late Period (A.D. 1300-1500). The human remains consist of the formal burial of an adult male and the fragmentary remains of an adult male. No known individuals were identified. The 102 associated funerary objects include: one large limestone worked cobble with pecking, four obsidian points, six obsidian flakes, 89 abalone shell disc beads, and two unmodified small mammal bone fragments.

Between 1959 and 1960, human remains representing, at minimum, 10 individuals were removed from the Alamo Creek site (CA-SLO-298) in San Luis Obispo County, CA. This collection resulted from excavations in preparation for the creation of the Vaquero Reservoir carried out on private land by a University of California Archeological Survey under the direction of Marcia Wire, Jack Smith, and David Pendergast under a permit from the National Park Service and on behalf of the Bureau of Reclamation. The collection was accessioned at UCLA in 1960. The site is identified as Proto-historic. Fragmentary human remains representing ten adults of unknown sex were identified from midden contexts. No known individuals were identified. No associated funerary objects were identified.

Through consultation, the Fowler Museum has determined that all the above described sites lie within the traditional territory of the Chumash. This determination is consistent with ethnographic and historic documentation. The associated funerary objects in this notice are consistent with others that are attributable to groups ancestral to the present-day Chumash people. The material culture of the earlier groups living in the geographical area encompassing these sites is characterized by archeologists as having passed through various stages over the past 10,000 years. Many local archeologists assert that the changes in the material culture reflect evolving ecological adaptations and related changes in social organization of the same populations, and do not represent population displacements or movements. The same range of artifact types and materials were used from the early pre-contact period until historic times. Native consultants explicitly state that population mixing, which did occur on a small scale, would not alter the continuity of the shared group identities of people associated with specific locales. Based on this evidence, shared group identity may reasonably be traced between the earlier group at these sites and present-day Chumash people.

Determinations Made by the Fowler Museum at University of California Los Angeles

Officials of the Fowler Museum at University of California Los Angeles have determined that:

• Pursuant to 25 U.S.C. 3001(9), the human remains described in this notice represent the physical remains of 16 individuals of Native American ancestry.

• Pursuant to 25 U.S.C. 3001(3)(A), the 310 objects described in this notice are reasonably believed to have been placed with or near individual human remains at the time of death or later as part of the death rite or ceremony.

• Pursuant to 25 U.S.C. 3001(2), there is a relationship of shared group identity that can be reasonably traced between the Native American human remains and associated funerary objects and the Santa Ynez Band of Chumash Mission Indians of the Santa Ynez Reservation, California.

Additional Requestors and Disposition

Lineal descendants or representatives of any Indian Tribe or Native Hawaiian organization not identified in this notice that wish to request transfer of control of these human remains and associated funerary objects should submit a written request with information in support of the request to Wendy G. Teeter, Ph.D., Fowler Museum at UCLA, Box 951549, Los Angeles, CA 90095-1549, telephone (310) 825-1864, email wteeter@arts.ucla.edu, by April 29, 2019. After that date, if no additional requestors have come forward, transfer of control of the human remains and associated funerary objects to the Santa Ynez Band of Chumash Mission Indians of the Santa Ynez Reservation, California may proceed.

The Fowler Museum at the University of California Los Angeles is responsible for notifying the Santa Ynez Band of Chumash Mission Indians of the Santa Ynez Reservation, California that this notice has been published.

Dated: February 25, 2019.
Melanie O'Brien,
Manager, National NAGPRA Program.

[FR Doc. 2019-06000 Filed 3-27-19; 8:45 am]

BILLING CODE 4312-52-P